DEPARTMENT OF TRANSPORTATION

Federal Aviation Administration

14 CFR Part 39

[Docket No. FAA-2017-0639; Directorate Identifier 2017-CE-016-AD]

RIN 2120-AA64

Airworthiness Directives; British Aerospace Regional Aircraft Airplanes

AGENCY: Federal Aviation Administration (FAA), Department of Transportation (DOT).

ACTION: Notice of proposed rulemaking (NPRM).

SUMMARY: We propose to adopt a new airworthiness directive (AD) for British Aerospace Regional Aircraft Jetstream Series 3101 and Jetstream Model 3201 airplanes that would supersede AD 2014-07-09. This proposed AD results from mandatory continuing airworthiness information (MCAI) originated by an aviation authority of another country to identify and correct an unsafe condition on an aviation product. The MCAI describes the unsafe condition as inadequate instructions for inspection for corrosion on the rudder upper hinge bracket and certain internal wing and drainage paths. We are issuing this proposed AD to require actions to address the unsafe condition on these products.

DATES: We must receive comments on this proposed AD by August 7, 2017.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact BAE Systems (Operations) Limited, Customer Information Department, Prestwick International Airport, Ayrshire, KA9 2RW, Scotland, United Kingdom; telephone: +44 1292 675207; fax: +44 1292 675704; email: RApublications@baesystems.com; Internet: http://www.baesystems.com/Businesses/RegionalAircraft/. You may review copies of the referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2017-0639; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION:

Comments Invited

We invite you to send any written relevant data, views, or arguments about this proposed AD. Send your comments to an address listed under the ADDRESSES section. Include “Docket No. FAA-2017-0639; Directorate Identifier 2017-CE-016-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On April 4, 2014, we issued AD 2014-07-09, Amendment 39-17823 (79 FR 22367; April 22, 2014). That AD required actions intended to address an unsafe condition on British Aerospace Regional Aircraft Model Jetstream Series 3101 and Jetstream Model 3201 airplanes and was based on mandatory continuing airworthiness information (MCAI) originated by an aviation authority of another country.

Since we issued AD 2014-07-09, more extensive reports of corrosion have been received, resulting in the need to inspect additional areas.

The European Aviation Safety Agency (EASA), which is the Technical Agent for the Member States of the European Community, has issued EASA AD No.: 2017-0073, dated April 27, 2017 (referred to after this as “the MCAI”), to correct an unsafe condition for the specified products. The MCAI states:

Maintenance instructions for BAE Jetstream 3100 and 3200 aeroplanes, which are approved by EASA, are currently defined and published in the BAE Systems (Operations) Ltd Jetstream Series 3100 & 3200 Corrosion Prevention and Control Programme (CPCP) document, JS/CPCP/01. These instructions have been identified as mandatory for continued airworthiness.

Failure to accomplish these instructions could result in an unsafe condition.

EASA issued AD 2012-0036 to require operators to comply with the inspection instructions as contained in the CPCP at Revision 6.

Since that AD was issued, reports have been received of finding extensive corrosion. While affected areas are covered by an existing zonal inspection, it has been determined that this inspection is inadequate to identify the corrosion in those areas. Consequently, new inspection items 52-11-002 C1, 200/EX/01 C2, 500/IN/02 C1, 600/IN/04 C1 and 700/IN/04 C1 have been added to the CPCP at Revision 8.

For the reason described above, this [EASA] AD retains the requirements of EASA AD 2012-0036, which is superseded, and requires accomplishment of the actions specified in BAE Systems (Operations) Ltd Jetstream Series 3100 & 3200 CPCP, JS/CPCP/01, Revision 8 (hereafter referred to as `the CPCP' in this AD).

You may examine the MCAI on the Internet at http://www.regulations.gov by searching for and locating Docket No. FAA-2017-0639.

Related Service Information Under 1 CFR Part 51

BAE Systems (Operations) Limited has issued British Aerospace Jetstream Series 3100 & 3200 Corrosion Prevention and Control Programme, Manual Ref: JS/CPCP/01, Revision 8, dated October 15, 2016. The service information describes procedures for a comprehensive corrosion prevent and control program. This service information is reasonably available because the interested parties have access to it through their normal course of business or by the means identified in the ADDRESSES section of this NPRM.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 42 products of U.S. registry. We also estimate that it would take about 100 work-hours per product to comply with the basic requirements of this proposed AD. The average labor rate is $85 per work-hour.

Based on these figures, we estimate the cost of the proposed AD on U.S. operators to be $357,000, or $8,500 per product.

The scope of damage found in the required inspection could vary significantly from airplane to airplane. We have no way of determining how much damage may be found on each airplane or the cost to repair damaged parts on each airplane or the number of airplanes that may require repair.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-17823 (79 FR 22367; April 22, 2014), and adding the following new AD:

British Aerospace Regional Aircraft: Docket No. FAA-2017-0639; Directorate Identifier 2017-CE-016-AD.

(a) Comments Due Date

We must receive comments by August 7, 2017.

(b) Affected ADs

This AD replaces AD 2014-07-09, Amendment 39-17823 (79 FR 22367; April 22, 2014) (“2014-07-09”).

(c) Applicability

This AD applies to British Aerospace Regional Aircraft Jetstream Series 3101 and Jetstream Model 3201 airplanes, all serial numbers, certificated in any category.

(d) Subject

Air Transport Association of America (ATA) Code 5: Time Limits.

(e) Reason

This AD was prompted by mandatory continuing airworthiness information (MCAI) originated by an aviation authority of another country to identify and correct an unsafe condition on an aviation product. The MCAI describes the unsafe condition as inadequate instructions for inspection for corrosion on the rudder upper hinge bracket and certain internal wing stations and drainage paths. We are issuing this AD to detect and correct corrosion on the rudder upper hinge bracket and internal wing, areas of the passenger/crew door hinges and supporting structure, the main spar joint, and the engine support attachment bolts, which could lead to reduced structural integrity of the airplane with consequent loss of control.

(f) Actions and Compliance

Comply with paragraphs (f)(1) through (3) of this AD within the compliance times specified, unless already done:

(1) Before further flight after the effective date of this AD, incorporate BAE Systems (Operations) Limited Jetstream Series 3100 & 3200 Corrosion Prevention and Control Programme, Manual Ref. JS/CPCP/01, Revision 8, dated October 15, 2016, into the Limitations of your FAA-approved maintenance program (instructions for continued airworthiness) on the basis of which the operator or the owner ensures the continuing airworthiness of each operated airplane, as applicable to the airplane model.

(2) Do all tasks at the times specified in BAE Systems (Operations) Limited Jetstream Series 3100 & 3200 Corrosion Prevention and Control Programme, Manual Ref. JS/CPCP/01, Revision 8, dated October 15, 2016, or within the next 12 months after the effective date of this AD, whichever occurs later, except for the following, which must be done within 12 months after the effective date of this AD: 52-11-002 C1, 200/EX/01 C2, 500/IN/02 C1, 600/IN/04 C1, and 700/IN/04 C1.

(3) If any discrepancy, particularly corrosion, is found during any inspections or tasks required by paragraphs (f)(1) or (2) of this AD, within the compliance time specified, repair or replace, as applicable, all damaged structural parts and components and do the maintenance procedures for corrective action following BAE Systems (Operations) Limited Jetstream Series 3100 & 3200 Corrosion Prevention and Control Programme, Manual Ref. JS/CPCP/01, Revision 8, dated October 15, 2016. If no compliance time is defined, do the applicable corrective action before further flight.

(g) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI European Aviation Safety Agency (EASA) AD No.: 2017-0073, dated April 27, 2017; and BAE Systems (Operations) Limited Jetstream Series 3100 & 3200 Corrosion Prevention and Control Programme, Manual Ref. JS/CPCP/01, Revision 8, dated October 15, 2016; for related information. You may examine the MCAI on the Internet at http://www.regulations.gov by searching for and locating Docket No. FAA-2017-0639. For service information related to this AD, contact BAE Systems (Operations) Limited, Customer Information Department, Prestwick International Airport, Ayrshire, KA9 2RW, Scotland, United Kingdom; telephone: +44 1292 675207; fax: +44 1292 675704; email: RApublications@baesystems.com; Internet: http://www.baesystems.com/Businesses/RegionalAircraft/. You may review copies of the referenced service information at the FAA, Small Airplane Directorate, 901 Locust, Kansas City, Missouri 64106. For information on the availability of this material at the FAA, call (816) 329-4148.

Issued in Kansas City, Missouri, on June 19, 2017.
Pat Mullen,
Acting Manager, Small Airplane Directorate, Aircraft Certification Service.

[FR Doc. 2017-13130 Filed 6-22-17; 8:45 am]

BILLING CODE 4910-13-P